DEPARTMENT OF COMMERCE

U.S. Census Bureau

Proposed Information Collection; Comment Request; Monthly Retail Trade Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 17, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Karla Allen, U.S. Census Bureau, SSSD HQ-8K183A, 4600 Silver Hill Road, Washington, DC 20233-6500, (301) 763-7208 (or via the Internet at Karla.L.Allen@census.gov).

SUPPLEMENTARY INFORMATION:

I. Abstract

The Monthly Retail Trade Survey provides estimates of monthly retail sales, end-of-month merchandise inventories, and quarterly e-commerce sales of retailers in the United States by selected kinds of business. Also, it provides monthly sales of food service establishments. The Bureau of Economic Analysis (BEA) uses this information to prepare the National Income and Products Accounts and to benchmark the annual input-output tables. Statistics provided from the Monthly Retail Trade Survey are used to calculate the gross domestic product (GDP).

Estimates produced from the Monthly Retail Trade Survey are based on a probability sample. The sample design consists of one fixed panel where all cases are requested to report sales, e-commerce sales, and/or inventories each month. The sample is drawn from the Business Register, which contains all Employer Identification Numbers (EINs) and listed establishment locations. There are approximately 10,305 respondents contacted each month for the survey. The sample is updated quarterly to reflect employer business “births” and “deaths”; adding new employer businesses identified in the Business and Professional Classification Survey and deleting firms and EINs when it is determined they are no longer active.

Listed below are the series of retail form numbers and a description of each form:

Series | Description
SM-44(12)S | Non-Department store, Sales only, No E-Commerce.
SM-44(12)SE | Non-Department store, Sales only, w/E-Commerce.
SM-44(12)SS | Non-Department store, Sales only, w/E-Commerce question.
SM-44(12)B | Non-Department store, Sales & Inventories.
SM-44(12)BE | Non-Department store, Sales & Inventories, w/E-Commerce.
SM-44(12)BS | Non-Department store, Sales & Inventories, w/E-Commerce question.
SM-45(12)S | Department store with leased dept., Sales only, No E-Commerce.
SM-45(12)SE | Department store with leased dept., Sales only, w/E-Commerce.
SM-45(12)SS | Department store with leased dept., Sales only, w/E-Commerce question.
SM-45(12)B | Department store with leased dept., Sales & Inventory, No E-Commerce.
SM-45(12)BE | Dept. store with leased dept., Sales & Inventory, w/E-Commerce.
SM-45(12)BS | Dept. store with leased dept., Sales & Inventory, w/E-Commerce question.
SM-72(12)S | Food Service, Sales only, No E-Commerce.
SM-20(12)I | Non-Department and Department Store, Retail Inventories Only.

II. Method of Collection

We will collect this information by mail, FAX, telephone follow-up, and Internet.

III. Data

OMB Control Number: 0607-0717.

Form Numbers: SM-44(12)S, SM-44(12)SE, SM-44(12)SS, SM-44(12)B, SM-44(12)BE, SM-44(12)BS, SM-45(12)S, SM-45(12)SE, SM-45(12)SS, SM-45(12)B, SM-45(12)BE, SM-45(12)BS, SM-72(12)S, and SM-20(12)I.

Type of Review: Regular submission.

Affected Public: Retail and Food Services firms in the United States.

Estimated Number of Respondents: 10,305.

Estimated Time per Response: 7 minutes.

Estimated Total Annual Burden Hours: 14,427.

Estimated Total Annual Cost: The cost to the respondents for fiscal year 2013 is estimated to be $440,745.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 9, 2014.
Glenna Mickelson,
Management Analyst, Office of the Chief Information Officer.

[FR Doc. 2014-00514 Filed 1-14-14; 8:45 am]

BILLING CODE 3510-07-P